DEPARTMENT OF THE INTERIOR

National Park Service

National Register of Historic Places; Notification of Pending Nominations and Related Actions

Nominations for the following properties being considered for listing or related actions in the National Register were received by the National Park Service before March 8, 2008. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by April 8, 2008.

J. Paul Loether,
Chief, National Register of Historic Places/National Historic Landmarks Program.

COLORADO

El Paso County

Drennan School, (Rural School Buildings in Colorado MPS) 20500 Drennan Rd., Colorado Springs, 08000290

Larimer County

Greeley, Salt Lake and Pacific Railroad—Stout Branch, (Railroads in Colorado, 1858-1948 MPS) Approx. 1/2 mi. S. of jct. U.S. 287 & Co. Rd. 28, Laporte, 08000291

GEORGIA

Franklin County

Ayers—Little Boarding House, 121 Athens St., Carnesville, 08000292

Pickens County

Griffeth—Pendley House, 2198 Cove Rd., Jasper, 08000293

ILLINOIS

Cook County

Andersonville Commercial Historic District, 4900-5800 N. Clark St., Chicago, 08000294

Edgar County

Moss, Henry Clay, House, 414 N. Main St., Paris, 08000295

KANSAS

Barton County

Beaver Creek Native Stone Bridge, (Masonry Arch Bridges of Kansas TR) NE. 50 Ave. S. & NE. 230 Rd., Beaver, 08000296

Bridge #218—Off System Bridge, (New Deal-Era Resources of Kansas MPS) NE. 60 Ave. S. & NE. 220 Rd., Beaver, 08000297

Hitschmann Cattle Underpass Bridge, (Masonry Arch Bridges of Kansas TR) NE. 110 Ave. S. & NE. 190 Rd., Hitschmann, 08000298

Hitschmann Double Arch Bridge, (Masonry Arch Bridges of Kansas TR) NE. 110 Ave. S. & NE 190 Rd., Hitschmann, 08000299

Crawford County

Besse Hotel, 121 E. 4th St., Pittsburg, 08000300

Colonial Fox Theatre, (Theaters and Opera Houses of Kansas MPS) 409 N. Broadway, Pittsburg, 08000301

Washington Grade School, (Public Schools of Kansas MPS) 209 S. Locust St., Pittsburg, 08000302

Gove County

Oxley Barn, 2740 Co. Rd. 74, Quinter, 08000303

Reno County

Kelly Mills, (Commercial and Industrial Resources of Hutchinson MPS) 400-414 S. Main, Hutchinson, 08000304

Sedgwick County

College Hill Park Bathhouse, (New Deal-Era Resources of Kansas MPS) 304 S. Circle Dr., Wichita, 08000305

Linwood Park Greenhouse and Maintenance Building, (New Deal-Era Resources of Kansas MPS) 1700 S. Hydraulic St., Wichita, 08000306

North Riverside Park Comfort Station, (New Deal-Era Resources of Kansas MPS) 900 N. Bitting Ave., Wichita, 08000307

Roberts House, 235 N. Roosevelt, Wichita, 08000308

Sim Park Golf Course Tee Shelters, (New Deal-Era Resources of Kansas MPS) 2020 W. Murdock St., Wichita, 08000309

Trego County

St. Michael School & Convent, 700 & 704 Ainslie Ave., Collyer, 08000310

MISSOURI

St. Louis Independent City

Arlington School, (St. Louis Public Schools of William B. Ittner MPS) 1617 Burd Ave., St. Louis (Independent City), 08000311

MONTANA

Beaverhead County

Van Camp—Tash Ranch, 1200 MT 278, Dillon, 08000312

NORTH DAKOTA

Bowman County

Schade, Emma Petznick and Otto, House, 406 W. Divide, Bowman, 08000313

RHODE ISLAND

Newport County

Southern Thames Historic District, Thames St. from Memorial Blvd. to Morton Ave., Newport, 08000314

TENNESSEE

Robertson County

Woodard, Thomas Jr., Farm, (Historic Family Farms in Middle Tennessee MPS) 5024 Ogg Rd., Cedar Hill, 08000315

TEXAS

Harris County

Washburn Tunnel, 3100 Federal Rd., Houston, 08000316

Tarrant County

American Airways Hanger and Administration Building, 201 Aviation Wy., Fort Worth, 08000317

Travis County

Miller, Fannie Moss, House, 900 Rio Grande St., Austin, 08000318

Santa Rita Courts, Roughly bounded by E. 2nd, Pedernales, Santa Rita & Corta Sts., Austin, 08000319

VIRGINIA

Isle of Wight County

Fort Huger, Talcott Terrace, Smithfield, 08000320

Pulaski County

Howe, Haven B., House, 4400 State Park Rd., Dublin, 08000321

WISCONSIN

Dane County

Dahle, Onon B. and Betsy, House, 10779 Evergreen Ave., Perry, 08000322

[FR Doc. E8-5821 Filed 3-21-08; 8:45 am]

BILLING CODE 4312-51-P